FEDERAL MARITIME COMMISSION

Ocean Transportation Intermediary License Reissuance

The Commission gives notice that the following Ocean Transportation Intermediary license has been reissued pursuant to section 19 of the Shipping Act of 1984 (46 U.S.C. 40101).

License No.: 012308N.

Name: Versatile International Corporation dba King Yang Shipping.

Address: 11100 Valley Blvd., Suite 110, El Monte, CA 91731.

Date Reissued: April 6, 2014.

Sandra L. Kusumoto.
Director, Bureau of Certification and Licensing.

[FR Doc. 2014-12121 Filed 5-23-14; 8:45 am]

BILLING CODE 6730-01-P